DEPARTMENT OF THE INTERIOR

Bureau of Reclamation

[RR02054000, 23XR0680A1, RX.02148941.332CR00]

Central Valley Project Improvement Act 2023 Criteria for Evaluating Water Management Plans (Standard Criteria)

AGENCY: Bureau of Reclamation, Interior.

ACTION: Notice of availability.

SUMMARY: The Bureau of Reclamation (Reclamation) has made available the draft 2023 Criteria for Evaluating Water Management Plans (Standard Criteria) for public review and comment.

DATES: Submit written comments on the draft 2023 Standard Criteria on or before October 25, 2023.

ADDRESSES: Send written comments to Ms. Anitalee C. Bronner, Bureau of Reclamation, Attn: CBG-400, 2800 Cottage Way, Sacramento, CA 95825; or via email at abronner@usbr.gov. To view a copy of the draft 2023 Standard Criteria, go to https://www.usbr.gov/mp/watershare.

FOR FURTHER INFORMATION CONTACT: For further information on the draft Standard Criteria or to be placed on a mailing list for any subsequent information, please contact Ms. Anitalee C. Bronner at (916) 978-5380, or via email at abronner@usbr.gov.

Individuals who are deaf, deafblind, hard of hearing, or have a speech disability may dial 711 (TTY, TDD, or TeleBraille) to access telecommunications relay services.

SUPPLEMENTARY INFORMATION: Section 3405(e) of the Central Valley Project Improvement Act (title 34 Pub. L. 102-575) requires the Secretary of the Interior to, among other things, “develop criteria for evaluating the adequacy of all water conservation plans” developed by certain contractors. According to section 3405(e)(1), these criteria must promote “the highest level of water use efficiency reasonably achievable by project contractors using best available cost-effective technology and best management practices.” In accordance with this legislative mandate, Reclamation developed and published the Standard Criteria, which is updated every 3 years.

Public Disclosure. We invite the public to comment on our preliminary (i.e., draft) 2023 Standard Criteria. Before including your address, phone number, email address, or other personal identifying information in your comment, you should be aware that your entire comment—including your personal identifying information—may be made publicly available at any time. While you can ask us in your comment to withhold your personal identifying information from public review, we cannot guarantee that we will be able to do so.

Adam Nickels,
Regional Resources Manager, Division of Resources Management, California-Great Basin—Interior Region 10.

[FR Doc. 2023-20034 Filed 9-14-23; 8:45 am]

BILLING CODE 4332-90-P